NUCLEAR REGULATORY COMMISSION

[NRC-2010-0352]

Notice of Public Meeting

AGENCY: Nuclear Regulatory Commission (NRC).

ACTION: Notice of NRC/DOE joint public meeting.

SUMMARY: The NRC and the DOE announce their intent to conduct a public meeting to discuss agency interactions and activities in accordance with each agency's responsibilities under Section 3116 of the National Defense Authorization Act (NDAA) for Fiscal Year 2005. The meeting date, time, and location are listed below:

Date: Monday, November 15, 2010.

Time: 7 p.m. to 10 p.m.

Location: The Aiken Municipal Building Conference Center, 215 The Alley, Aiken, SC 29801, Phone: 803-642-7654.

Draft Agenda:

7-7:10 Introductions and Opening Remarks.

7:10-8 NDAA Section 3116 Process.

8-9 NDAA Section 3116 Challenges and Accomplishments.

9-10 Opportunity for Public Questions and/or Comment.

Background

On October 9, 2004, the Ronald W. Reagan National Defense Authorization Act for Fiscal Year 2005 (NDAA) was passed by Congress and was signed by the President on October 28, 2004. Section 3116 of the NDAA allows the DOE to determine that certain incidental waste, stemming from reprocessing of spent nuclear fuel, is not high-level waste (HLW). Should these incidental wastes, or Waste Incidental to Reprocessing (WIR), meet the criteria defined by the NDAA, they will be disposed via near-surface disposal. The NDAA is applicable only in the states of South Carolina and Idaho and does not apply to waste transported out of these States. The NDAA requires that: (1) DOE consult with NRC on its waste determinations in South Carolina and Idaho, and (2) NRC, in coordination with the State, monitor disposal actions taken by DOE for the purpose of assessing compliance with NRC regulations in 10 CFR part 61, subpart C. If the NRC considers any disposal actions taken by the DOE pursuant to subparagraphs (A) or (B) of Section 3116(a)(3) of the NDAA to be not in compliance with those performance objectives, the NRC shall, as soon as practicable after discovery of the noncompliant conditions, inform the DOE, the covered State, and Congress. On November 16, 2006 and July 20, 2007, the NRC and DOE held public meetings to discuss the efficiency and effectiveness of the consultation process. This meeting is part of a series of continuing public lessons learned meetings that the NRC and DOE hold jointly. Since the November 2006 NRC/DOE joint public meeting, many NDAA, Section 3116 consultation and monitoring activities have taken place at the Savannah River Site. NRC is currently fulfilling its monitoring role for disposal actions at the Saltstone Facility at the Savannah River Site and consultation activities are underway as the DOE has recently submitted the F-Tank Farm Performance Assessment and Draft Waste Determination for NRC review. The agencies will provide the public with an update on NDAA Section 3116 activities, provide interested stakeholders a chance to make comments and ask questions, and inform the public of future activities.

After the meeting, a publicly available summary of this meeting will be made available on the NRC's Agencywide Documents Access and Management System at http://www.nrc.gov and on the DOE webpage at http://www.em.doe.gov/pages/3116Summaries.aspx.

Detailed Agenda

Speakers

Linda Suttora—Office of Environmental Compliance, DOE, DOE HQ Project Manager for SRS Section 3116 Activities

Sherri Ross—Savannah River Site, Waste Disposition Programs Division, DOE, DOE SR Project Manager for Tank Farm Closures

Gregory Suber—Low-Level Waste Branch Chief, NRC, Chief of NRC Branch Responsible for WIR Activities

Frank Marcinowski—Deputy Assistant Secretary for Technical and Regulatory Support, DOE

Larry W. Camper—Director of the Division of Waste Management and Environmental Protection, NRC

Agenda

7-7:10 Introductions and Opening Remarks (Nishka Devaser, NRC Saltstone Project Manager)

7:10-8 NDAA Section 3116 Process (DOE, DOE-SR, and NRC)

Linda Suttora, DOE-HQ

Sherri Ross, DOE-SR

Gregory Suber, NRC

8-9 NDAA Section 3116 Challenges and Accomplishments

NRC and DOE Perspectives on the Challenges Posed by Section 3116 and the Accomplishments Made

Frank Marcinowski, DOE

Larry Camper, NRC

9-10 Opportunity for Public Questions and/or Comment

FOR FURTHER INFORMATION CONTACT: For questions related to this meeting, please contact Nishka Devaser at (301) 415-5196 or Nishka.Devaser@nrc.gov.

Dated at Rockville, Maryland, this 8th day of November 2010.
For the Nuclear Regulatory Commission.
Gregory Suber,
Branch Chief, Low-Level Waste Branch, Environmental Protection and Performance Assessment Directorate, Division of Waste Management and Environmental Protection, Office of Federal and State Materials and Environmental Management Programs.

[FR Doc. 2010-28644 Filed 11-10-10; 8:45 am]

BILLING CODE 7590-01-P